DEPARTMENT OF EDUCATION

[CFDA Nos. 84.007, 84.032, 84.033, 84.038, 84.063, 84.069, and 84.268]

Student Assistance General Provisions, Federal Supplemental Educational Opportunity Grant, Federal Family Education Loan, Federal Work-Study, Federal Perkins Loan, Federal Pell Grant, Leveraging Educational Assistance Partnership, and William D. Ford Federal Direct Loan Programs

ACTION: Correction; notice of deadline dates for receipt of applications, reports, and other records for the 2003-2004 award year.

SUPPLEMENTARY INFORMATION: On March 10, 2004, we published a notice in the Federal Register (69 FR 11403) announcing the deadline dates for the receipt of documents and other information from institutions and applicants for the Federal student aid programs authorized under Title IV of the Higher Education Act of 1965, as amended, for the 2003-2004 award year. The Federal student aid programs include the Federal Perkins Loan, Federal Work-Study, Federal Supplemental Educational Opportunity Grant, Federal Family Education Loan, William D. Ford Federal Direct Loan, Federal Pell Grant, and Leveraging Educational Assistance Partnership programs.

Under “Table A. Deadline Dates for Application Processing and Receipt of Student Aid Reports (SARs) or Institutional Student Information Records (ISIRs) by Institutions”, (69 FR 11405), we are correcting the information in row 7 for a student making paper corrections using a SAR. Under the column titled, “What is Submitted?”, we are correcting the text to read “Paper corrections (including change of mailing and email addresses, institutions, or requests for a duplicate SAR) using a SAR”. Under the column titled, “Where is it Submitted?”, we are correcting the text to read “To the address printed on the SAR”. Under the column titled, “What is the Deadline Date for Receipt?”, we are correcting the date to read “September 7, 2004”.

FOR FURTHER INFORMATION CONTACT: Harold McCullough, U.S. Department of Education, Federal Student Aid, 830 First Street, NE., Union Center Plaza, room 93B2, Washington, DC 20202-5345. Telephone: (202) 377-4030.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in PDF at the following site: http://www.ifap.ed.gov.

Note: The official version of this document is the document published in the Federal Register. Free Internet access to the official edition of the Federal Register and the Code of Federal Regulations is available on GPO Access at: http://www.gpoaccess.gov/nara/index.html.

Program Authority: 20 U.S.C. 421-429, 1070a, 1070b-1070b-3, 1070c-1070c-4, 1071-1087-2, 1087a, and 1087aa-1087ii; 42 U.S.C. 2751-2756b.

Dated: July 1, 2004.
Theresa S. Shaw,
Chief Operating Officer, Federal Student Aid.

[FR Doc. 04-15472 Filed 7-7-04; 8:45 am]

BILLING CODE 4000-01-P